DEPARTMENT OF COMMERCE

National Oceanic and Atmospheric Administration

50 CFR Part 679

[Docket No. 251212-0184; RTID 0648-XF348]

Fisheries of the Exclusive Economic Zone Off Alaska; Bering Sea and Aleutian Islands; 2026 and 2027 Harvest Specifications for Groundfish

AGENCY: National Marine Fisheries Service (NMFS), National Oceanic and Atmospheric Administration (NOAA), Commerce.

ACTION: Proposed rule; harvest specifications and request for comments.

SUMMARY: NMFS proposes 2026 and 2027 harvest specifications, apportionments, and prohibited species catch limits for the groundfish fisheries of the Bering Sea and Aleutian Islands (BSAI) management area. This action is necessary to establish harvest limits for groundfish during the 2026 and 2027 fishing years and to accomplish the goals and objectives of the Fishery Management Plan for Groundfish of the Bering Sea and Aleutian Islands Management Area (FMP). The 2026 harvest specifications supersede those previously set in the final 2025 and 2026 harvest specifications, and the 2027 harvest specifications will be superseded in early 2027 when the final 2027 and 2028 harvest specifications are published. The intended effect of this action is to conserve and manage the groundfish resources in the BSAI in accordance with the Magnuson-Stevens Fishery Conservation and Management Act (Magnuson-Stevens Act).

DATES: Comments must be received by January 5, 2026.

ADDRESSES: A plain language summary of this proposed rule is available at https://www.regulations.gov/docket/NOAA-NMFS-2025-1098. You may submit comments on this document, identified by NOAA-NMFS-2025-1098 by any of the following methods:

• Electronic Submission: Submit all electronic public comments via the Federal e-Rulemaking Portal. Go to https://www.regulations.gov and type NOAA-NMFS-2025-1098 in the Search box. Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of the Alaska Groundfish Harvest Specifications Final Environmental Impact Statement (Final EIS), Record of Decision (ROD) for the Final EIS, and the annual Supplementary Information Reports (SIR) to the Final EIS prepared for this action are available from https://www.regulations.gov. An updated 2026 SIR for the final 2026 and 2027 harvest specifications will be available from the same source.

The final 2024 Stock Assessment and Fishery Evaluation (SAFE) report for the groundfish resources of the BSAI, dated December 2024, is available from the North Pacific Fishery Management Council (Council) at 1007 West Third, Suite 400, Anchorage, AK 99501-2252, phone 907-271-2809, or from the Council's website at https://www.npfmc.org and at https://www.fisheries.noaa.gov/alaska/population-assessments/north-pacific-groundfish-stock-assessments-and-fishery-evaluation.

FOR FURTHER INFORMATION CONTACT: Andrew Olson and Steven Whitney, 907-586-7228.

SUPPLEMENTARY INFORMATION: Federal regulations at 50 CFR part 679 implement the FMP and govern the groundfish fisheries in the BSAI. The Council prepared the FMP, and NMFS approved it, under the Magnuson-Stevens Act. General regulations governing U.S. fisheries also appear at 50 CFR part 600.

The FMP and its implementing regulations require NMFS, after consultation with the Council, to specify annually an overfishing limit (OFL), acceptable biological catch (ABC), and total allowable catch (TAC) for each target species category. The sum of TACs for all groundfish species in the BSAI must be within the optimum yield (OY) range of 1.4 million to 2.0 million metric tons (mt) (§ 679.20(a)(1)(i)(A) and 679.20(a)(2)). Section 679.20(c)(1) further requires that NMFS publish proposed harvest specifications in the Federal Register and solicit public comments on proposed annual TACs for each target species and apportionments thereof; prohibited species catch (PSC) allowances; prohibited species quota (PSQ) reserves established by § 679.21; seasonal allowances of pollock, Pacific cod, and Atka mackerel TAC; American Fisheries Act (AFA) allocations; Amendment 80 allocations; Community Development Quota (CDQ) reserve amounts established by § 679.20(b)(1)(ii); and ABC surpluses and reserves for CDQ groups and Amendment 80 cooperatives for flathead sole, rock sole, and yellowfin sole. The proposed harvest specifications set forth in tables 1 through 15 of this action satisfy these requirements.

Under § 679.20(c)(3), NMFS will publish the final 2026 and 2027 harvest specifications after (1) considering comments received within the comment period (see DATES), (2) consulting with the Council at its December 2025 meeting, (3) considering information presented in the 2026 SIR to the Final EIS that assesses the need to prepare a Supplemental EIS (see ADDRESSES), and (4) considering information presented in the final 2024 SAFE report, including the Ecosystem Status Reports (ESR) for both the Bering Sea and Aleutian Islands.

Other Actions Affecting the 2026 and 2027 the BSAI Harvest Specifications

State of Alaska Guideline Harvest Levels

The State of Alaska Board of Fisheries (BOF) established the guideline harvest level (GHL) for vessels using pot, longline, jig, and hand troll gear in State waters in the State's Aleutian Islands subarea (AI) State-waters sablefish registration area that includes all State waters west of Scotch Cap Light (164° 44.72′ W longitude) and south of Cape Sarichef (54° 36′ N latitude). The 2026 and 2027 AI GHL is set at 5 percent of the combined proposed Bering Sea (BS) subarea and AI apportionment of ABC (1,223 mt). The State's AI sablefish registration area includes areas adjacent to parts of the Federal BS subarea. Since most of the State's 2026 and 2027 GHL sablefish fishery is expected to occur in State waters adjacent to the Federal BS subarea, the Council and its BSAI Groundfish Plan Team (Plan Team), Scientific and Statistical Committee (SSC), and Advisory Panel (AP) recommended that the sum of all State and Federal sablefish removals from the BS and AI not exceed the recommended apportionment of ABC for sablefish in the BS and AI. Accordingly, the Council recommended, and NMFS proposes, that the 2026 and 2027 sablefish TACs in the BS and AI be reduced to account for the State's GHLs for sablefish caught in State waters.

The State's GHL for vessels using pot gear in State waters in the BS is currently equal to 13 percent of the Pacific cod ABC in the BS and is increased by one percent if 90 percent of the GHL is harvested by November 15 of the preceding year for 2 consecutive years, but may not exceed 15 percent of the BS ABC. However, if 90 percent of the GHL is not harvested by November 15 of the preceding year for two consecutive years the GHL will decrease by 1 percent, but the GHL may not decrease below 10 percent of the BS ABC. For 2026 the GHL for vessels using pot gear will remain the same as the GHL set in 2025 at 13 percent of the BS ABC, which is 18,398 mt. The GHL for 2027 may change based on harvest during the preceding fishing years, and any adjustment based on the 2027 GHL will be accounted for in the final 2027 and 2028 harvest specifications. Additionally, the State has established a GHL for vessels using jig gear in State waters in the BS equal to 45 mt of Pacific cod in the BS. The Council and its Plan Team, SSC, and AP recommended that the sum of all State and Federal waters Pacific cod removals from the BS not exceed the ABC recommendations for Pacific cod in the BS. Accordingly, the Council recommended, and NMFS proposes, that the 2026 and 2027 Pacific cod TACs in the BS account for the State's GHL of 18,443 mt for Pacific cod caught in State waters in the BS.

The State's GHL in State waters in the AI is currently equal to 35 percent of the AI ABC. The AI GHL will increase annually by 4 percent of the AI ABC if 90 percent of the GHL is harvested by November 15 of the preceding year, but may not exceed 39 percent of the AI ABC or 15 million pounds (6,804 mt). If 90 percent of the GHL is not harvested by November 15 of the preceding year for 2 consecutive years the GHL will decrease by 4 percent, but the GHL may not decrease below 15 percent of the AI ABC. The Council and its Plan Team, SSC, and AP recommended that the sum of all State and Federal Pacific cod removals from the AI not exceed the ABC recommendations for Pacific cod in the AI. Accordingly, the Council recommended, and NMFS proposes, that the 2026 and 2027 Pacific cod TACs in the AI account for the State's GHL for Pacific cod caught in State waters in the AI. NMFS anticipates that, based on harvest in 2024 and 2025, the GHL likely will decrease to 31 percent in 2026, and 31 percent of the proposed AI ABC is 4,022 mt. The 2026 GHL will be determined after fishing in 2025 is concluded, and the Council may recommend and NMFS may implement a change to the Pacific cod TAC in the final harvest specifications to account for the potential adjustment to the 2026 GHL. The GHL for 2027 may also change based on harvest during the preceding fishing years, and any adjustment based on the 2027 GHL will be accounted for in the final 2027 and 2028 harvest specifications.

Proposed ABC and TAC Harvest Specifications

In October 2025, the SSC, AP, and Council reviewed the most recent biological and harvest information on the condition of the BSAI groundfish stocks, including information in the final 2024 SAFE report for the BSAI groundfish fisheries, dated November 2024 (see ADDRESSES).

The proposed 2026 and 2027 harvest specifications are based on the final 2026 harvest specifications published on March 18, 2025 (90 FR 12640), which were set after consideration of the most recent 2024 SAFE report. The SAFE report contains a review of the latest scientific analyses and estimates of each species' biomass and other biological parameters including possible future condition of the stocks, as well as summaries of the available information on the BS and AI ecosystems and the economic condition of the groundfish fisheries off Alaska. The SAFE report provides information to the Council and NMFS for recommending and setting, respectively, annual harvest levels for each stock and documenting significant trends or changes in the resource, marine ecosystems, and fisheries over time.

The Ecosystem Status Reports (ESRs) are an appendix to the SAFE report. The ESRs compile and summarize information about the status of the Alaska marine ecosystems for the Plan Team, SSC, AP, Council, NMFS, and the public. These ESRs include ecosystem report cards, ecosystem assessments, and ecosystem status indicators (i.e., climate indices, sea surface temperature), which together provide context for ecosystem-based fisheries management in Alaska. The ESRs inform stock assessments and are integrated in the annual harvest recommendations through inclusion in stock assessment-specific risk tables. Also, the ESRs provide context for the SSC's recommendations for OFLs and ABCs, as well as for the Council's TAC recommendations. The SAFE reports and the ESRs are presented at the October and December Council meetings before the SSC, AP, and the Council make groundfish harvest recommendations and aid NMFS in implementing these annual groundfish harvest specifications.

In addition to the 2024 SAFE report, the Plan Team, SSC, and Council also reviewed preliminary survey data from 2025 surveys, updates on ecosystem and socioeconomic profiles for certain species, and summaries of potential changes to models and methodologies. From these data and analyses, the Plan Team recommends, and the SSC sets, the proposed OFL and ABC for each species and species group.

The proposed 2026 and 2027 OFLs and ABCs are based on the best available biological and scientific information, including projected biomass trends, information on assumed distribution of stock biomass, and revised technical methods used to calculate stock biomass. The FMP specifies a series of six tiers to define OFLs and ABCs based on the level of reliable information available to fishery scientists. Tier 1 represents the highest level of information quality available, while tier 6 represents the lowest. The proposed 2026 and 2027 TACs are based on the best available biological and socioeconomic information. The proposed 2026 and 2027 harvest specifications in this action are subject to change in the final harvest specifications to be published by NMFS.

In October 2025, the SSC adopted the proposed 2026 and 2027 OFLs and ABCs recommended by the Plan Team for all groundfish. In making its recommendations, the Council adopted the SSC's OFL and ABC recommendations. The OFL and ABC amounts are unchanged from the final 2026 harvest specifications published in the Federal Register on March 18, 2025 (90 FR 12640). Regulations require the sum of all TACs to be set to an OY between 1.4 and 2 million mt. The Council recommends TACs that are lower than the ABCs recommended by the SSC as necessary to ensure the sum of TACs do not exceed an OY of 2 million mt. Generally, total ABCs greatly exceed 2 million mt in years with a large pollock biomass. The sum of the proposed 2026 and 2027 ABCs for all assessed groundfish is 3,188,585 mt. The sum of the proposed TACs is 1,999,999 mt.

NMFS has reviewed the recommendations of the SSC and Council for OFLs, ABCs, and TACs for target species and species groups in the BSAI as well as any other relevant information. Based on that review, NMFS is proposing the OFLs, ABCs, and TACs set forth in the tables of this proposed rule as consistent with the Magnuson-Stevens Act, the FMP, and other applicable law, subject to further review and consideration after public comment.

Potential Changes Between Proposed and Final Specifications

The proposed groundfish OFLs, ABCs, and TACs are subject to change pending consideration of the SSC and AP recommendations, public comment, and the Council's recommendations for the final 2026 and 2027 harvest specifications during its December 2025 meeting.

In November of each year, the Plan Team typically updates the SAFE report to include new information collected such as NMFS surveys, revised stock assessments drafted by stock assessment authors, and catch data. Due to the lapse in appropriations and resulting government shutdown, the stock assessment authors were not able to complete their assessments and the Plan Team did not meet in November to review and update the 2024 SAFE report.

At the December 2025 Council meeting, the SSC and Council plan to consider the most recent SAFE, ecosystem information presented in September/October as well as updated information on climate and oceanography, and other updated information including catch reports and survey information. The Council will also consider, as it normally does, SSC and AP recommendations, public testimony, and relevant written comments in recommending the final 2026 and 2027 harvest specifications. Pursuant to § 679.20(a)(2) and (3), the Council could recommend that NMFS adjust the final TACs if warranted based on the biological condition of groundfish stocks or a variety of socioeconomic considerations, or if required to cause the sum of TACs to fall within the OY range.

In previous years, the most significant changes to the OFLs and ABCs from the proposed to the final harvest specifications have been based on the most recent NMFS stock surveys and model updates. These surveys provide updated estimates of stock biomass and spatial distribution, and inform changes to the models used for producing stock assessments. At the September 2025 Plan Team meeting, NMFS scientists presented updated and new survey results. Scientists also discussed potential changes to assessment models, and accompanying preliminary stock estimates. At the October 2025 Council meeting, the SSC reviewed this information. Normally, the Plan Team would then review survey results, model changes, and updated stock assessments for groundfish stocks at the November Plan Team meeting, which the SSC would then review, along with the Plan Team recommendations, at the December SSC meeting. Model changes based on SSC recommendations often result in changes to final OFLs, ABCs, and TACs. This year, however, there are likely to be limited changes between the proposed and final specifications because no model reruns or additional review could be completed by the NMFS stock assessment authors and Plan Team due to the lapse in appropriations and the government shutdown.

Specification and Apportionment of TAC Amounts

The Council recommended proposed 2026 and 2027 TACs that are equal to the proposed ABCs for 2026 and 2027 BS Greenland turbot, AI Greenland turbot, BSAI Kamchatka flounder, BS and Eastern AI Atka mackerel, Central AI Atka mackerel, BS Pacific ocean perch, Central AI Pacific ocean perch, Eastern AI Pacific ocean perch, BS and Eastern AI blackspotted and rougheye rockfish, Central AI and Western AI blackspotted and rougheye rockfish, BSAI shortraker rockfish, BS “other rockfish,” and AI “other rockfish.” The Council recommended proposed TACs less than the respective proposed ABCs for all other species. TACs for some species are reduced so that the overall TAC does not exceed the BSAI OY. These proposed amounts are consistent with the biological condition of groundfish stocks as described in the 2024 SAFE report. The proposed ABCs reflect harvest amounts that are less than the specified OFLs.

Table 1 lists the proposed 2026 and 2027 OFL, ABC, TAC, initial TAC (ITAC), and CDQ amounts for groundfish for the BSAI. The proposed apportionment of TAC amounts among fisheries and seasons is discussed below. These proposed amounts and apportionments by area, season, and sector are subject to change pending consideration of the SSC and AP recommendations, public comment, and the Council's recommendations for the final 2026 and 2027 harvest specifications during its December 2025 meeting.

BILLING CODE 3510-22-P

BILLING CODE 3510-22-C

Groundfish Reserves and the Incidental Catch Allowances for Pollock, Atka Mackerel, Flathead Sole, Rock Sole, Yellowfin Sole, and AI Pacific Ocean Perch

Section 679.20(b)(1)(i) requires NMFS to reserve 15 percent of the TAC for each target species category (except for pollock, fixed gear allocation of sablefish, and Amendment 80 species) in a nonspecified reserve. Section 679.20(b)(1)(ii)(B) requires that NMFS allocate 20 percent of the fixed gear allocation of sablefish to the fixed gear sablefish CDQ reserve for each subarea. Section 679.20(b)(1)(ii)(D) requires that NMFS allocate 7.5 percent of the trawl gear allocation of sablefish for each subarea from the nonspecified reserve and 10.7 percent of BS Greenland turbot and BSAI arrowtooth flounder TACs to the respective CDQ reserves. Section 679.20(b)(1)(ii)(C) requires that NMFS allocate 10.7 percent of the TACs for Atka mackerel, AI Pacific ocean perch, yellowfin sole, rock sole, flathead sole, and Pacific cod (the Amendment 80 species) to the respective CDQ reserves.

Sections 679.20(a)(5)(i)(A) and 679.31(a) require allocation of 10 percent of the BS pollock TAC to the pollock CDQ directed fishing allowance (DFA). Sections 679.20(a)(5)(iii)(B)(2)(i) and 679.31(a) require 10 percent of the AI pollock TAC be allocated to the pollock CDQ DFA. The entire Bogoslof District pollock TAC is allocated as an incidental catch allowance (ICA) pursuant to § 679.20(a)(5)(ii) because the Bogoslof District is closed to directed fishing for pollock by regulation (§ 679.22(a)(7)(B)). With the exception of the fixed gear sablefish CDQ reserve, the regulations do not further apportion the CDQ reserves by gear.

Pursuant to § 679.20(a)(5)(i)(A)(1), NMFS proposes a pollock ICA of 46,000 mt of the BS pollock TAC after subtracting the 10 percent CDQ DFA. This allowance is based on NMFS's examination of the pollock incidentally retained and discarded catch, including the incidental catch by CDQ vessels, in target fisheries other than pollock in recent years. Pursuant to § 679.20(a)(5)(iii)(B)(2)(i) and (ii), NMFS proposes a pollock ICA of 4,500 mt of the AI pollock TAC after subtracting the 10 percent CDQ DFA. This allowance is based on NMFS's examination of the pollock incidental catch, including the incidental catch by CDQ vessels, in target fisheries other than pollock in recent years.

After subtracting the 10.7 percent CDQ reserve and pursuant to § 679.20(a)(8) and (10), NMFS proposes ICAs of 2,000 mt of flathead sole, 3,000 mt of rock sole, 2,000 mt of yellowfin sole, 10 mt of Western Aleutian district Pacific ocean perch, 60 mt of Central Aleutian district Pacific ocean perch, 100 mt of Eastern Aleutian district Pacific ocean perch, 20 mt of Western Aleutian district Atka mackerel, 100 mt of Central Aleutian district Atka mackerel, and 800 mt of Eastern Aleutian district and BS subarea Atka mackerel. These ICAs are based on NMFS's examination of the incidental catch in other target fisheries in recent years.

The regulations do not designate the remainder of the nonspecified reserve by species or species group. Any amount of the reserve may be apportioned to a target species that contributed to the nonspecified reserve during the year, provided that such apportionments are consistent with § 679.20(a)(3) and do not result in overfishing (§ 679.20(b)(1)(i)). In the final 2026 and 2027 harvest specifications, NMFS will evaluate whether any apportionments are necessary and may apportion from the nonspecified reserve to increase the ITAC for any target species that contributed to the reserve.

Allocations of Pollock TAC Under the American Fisheries Act

Section 679.20(a)(5)(i)(A) requires that the BS pollock TAC be apportioned as a DFA, after subtracting 10 percent for the CDQ Program and 46,000 mt for the ICA, as follows: 50 percent to the inshore sector, 40 percent to the catcher/processor (C/P) sector, and 10 percent to the mothership sector. In the BS, 45 percent of the DFAs are allocated to the A season (January 20 through June 10), and 55 percent of the DFAs are allocated to the B season (June 10 through November 1) (§§ 679.20(a)(5)(i)(B)(1) and 679.23(e)(2)). The AI directed pollock fishery allocation to the Aleut Corporation is the amount of pollock TAC remaining in the AI, after subtracting 10 percent for the CDQ DFA and 3,000 mt for the ICA (§ 679.20(a)(5)(iii)(B)(2)). In the AI, the total A season apportionment of the pollock TAC (including the AI directed fishery allocation, the CDQ DFA, and the ICA) may not exceed 40 percent of the ABC for AI pollock, and the remainder of the pollock TAC is allocated to the B season (§ 679.20(a)(5)(iii)(B)(3)). Table 2 lists these proposed 2026 and 2027 amounts. Within any fishing year, any under harvest or over harvest of a seasonal allowance may be added to or subtracted from a subsequent seasonal allowance (§§ 679.20(a)(5)(i)(B)(2) and 679.20(a)(5)(iii)(B)(3)(iii)).

Section 679.20(a)(5)(iii)(B)(6) sets harvest limits for pollock in the A season (January 20 through June 10) in Areas 543, 542, and 541. In Area 543, the A season pollock harvest limit is no more than 5 percent of the AI pollock ABC. In Area 542, the A season pollock harvest limit is no more than 15 percent of the AI pollock ABC. In Area 541, the A season pollock harvest limit is no more than 30 percent of the AI pollock ABC.

Section 679.20(a)(5)(i)(A)(4) includes several specific requirements regarding BS pollock allocations. First, it requires that 8.5 percent of the pollock allocated to the C/P sector be available for harvest by AFA CVs with C/P sector endorsements, unless the Regional Administrator receives a cooperative contract that allows the distribution of harvest among AFA C/Ps and AFA CVs in a manner agreed to by all members. Second, AFA C/Ps not listed in the AFA are limited to harvesting no more than 0.5 percent of the pollock allocated to the C/P sector. Table 2 lists the proposed 2026 and 2027 allocations of pollock TAC. Tables 13, 14, and 15 list the AFA C/P and CV sideboard limits. NMFS calculates the AFA inshore pollock cooperative and open access sector allocations based on the submission of AFA inshore cooperative applications each year. NMFS will include the 2026 AFA inshore pollock cooperative and open access sector allocations in the final harvest specifications. The 2027 allocations for AFA inshore pollock cooperative and open access sector allocations will not be known until eligible participants apply for participation in the program by December 1, 2026.

Table 2 also lists proposed seasonal apportionments of pollock and harvest limits within the Steller Sea Lion Conservation Area (SCA). The harvest of pollock within the SCA, as defined at § 679.22(a)(7)(vii), is limited to no more than 28 percent of the annual pollock DFA before 12 p.m. (noon), April 1, as provided in § 679.20(a)(5)(i)(C). The A season pollock SCA harvest limit will be apportioned to each sector in proportion to each sector's allocated percentage of the DFA.

BILLING CODE 3510-22-P

BILLING CODE 3510-22-C

Allocation of the Atka Mackerel TACs

Section 679.20(a)(8) allocates the Atka mackerel TACs to the Amendment 80 and BSAI trawl limited access sectors, after subtracting the CDQ reserves, ICAs for the BSAI trawl limited access sector and non-trawl gear sector, and the jig gear allocation (table 3). The percentage of the ITAC for Atka mackerel allocated to the Amendment 80 and BSAI trawl limited access sectors is listed in table 33 to 50 CFR part 679 and in § 679.91. Pursuant to § 679.20(a)(8)(i), up to 2 percent of the Eastern Aleutian district and BS subarea Atka mackerel TAC may be allocated to vessels using jig gear. The percent of this allocation is recommended annually by the Council based on several criteria, including the anticipated harvest capacity of the jig gear fleet. The Council recommended, and NMFS proposes, a 0.5 percent allocation of the Atka mackerel TAC in the Eastern Aleutian district and BS subarea to the jig sector gear in 2026 and 2027. This allocation, though, may change in the final harvest specifications. At the October Council meeting, the Council indicated that it may recommend at its December Council meeting a zero percent allocation of the Atka mackerel TAC in the Eastern Aleutian district and BS subarea to the jig sector for the final 2026 and 2027 harvest specifications. This is based on the amount of Atka mackerel harvested by vessels using jig gear during recent fishing years; this sector has not utilized any of its allocation in recent years. The Council and NMFS will consider whether to reduce the allocation to zero percent of the Atka mackerel TAC in the Eastern Aleutian district and BS subarea to the jig sector gear for the final 2026 and 2027 harvest specifications, based on factors that include the anticipated harvest, if any, by vessels using jig gear in the upcoming fishing year, and any relevant public comment at the December Council meeting.

Section 679.20(a)(8)(ii)(A) apportions the Atka mackerel TAC, after subtraction of the jig gear allocation, into two equal seasonal allowances. Section 679.23(e)(3) sets the first seasonal allowance for directed fishing with trawl gear from January 20 through June 10 (A season), and the second seasonal allowance for directed fishing with trawl gear from June 10 through December 31 (B season). Section 679.23(e)(4)(iii) applies Atka mackerel seasons to trawl CDQ Atka mackerel fishing. Within any fishing year, any under harvest or over harvest of a seasonal allowance will be added to or subtracted from a subsequent seasonal allowance (§ 679.20(a)(8)(ii)(B)). The ICA and jig gear allocations are not apportioned by season.

Section 679.20(a)(8)(ii)(C)(1) limits Atka mackerel catch within waters 0 nautical miles (nmi) to 20 nmi (37.04 kilometers) of Steller sea lion sites listed in table 6 to 50 CFR part 679 and located west of 178° W longitude to no more than 60 percent of the annual TACs in Areas 542 and 543, and equally divides that annual harvest limit between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nmi to 20 nmi (37.04 kilometers) of Steller sea lion sites listed in table 6 to 50 CFR part 679 and located in Areas 541, 542, and 543.

Table 3 lists the proposed 2026 and 2027 Atka mackerel seasonal allowances, area allowances, and the sector allocations. One Amendment 80 cooperative has formed for the 2026 fishing year. Because all Amendment 80 vessels are part of the sole cooperative, no allocation to the Amendment 80 limited access sector is required for 2026. The 2027 allocations for Atka mackerel between Amendment 80 cooperatives and the Amendment 80 limited access sector will not be known until eligible participants apply for participation in the program by November 1, 2026.

BILLING CODE 3510-22-P

BILLING CODE 3510-22-C

Allocation of the Pacific Cod TAC

Section 679.20(b)(1)(ii)(C) allocates 10.7 percent of the BS TAC and the AI TAC to the CDQ Program. After CDQ allocations have been deducted from the respective BS and AI Pacific cod TACs, the remaining BS and AI Pacific cod TACs are combined for calculating further BSAI Pacific cod sector allocations and seasonal allowances. If the non-CDQ Pacific cod TAC is or will be reached in either the BS or the AI subareas, NMFS will prohibit directed fishing for non-CDQ Pacific cod in that subarea, as provided in § 679.20(d)(1)(iii).

Section 679.20(a)(7)(ii) allocates to the non-CDQ sectors the combined BSAI Pacific cod TAC, after subtracting 10.7 percent for the CDQ Program, as follows: 1.4 percent to vessels using jig gear, 2.0 percent to hook-and-line or pot CVs less than 60 feet (ft) (18.3 meters (m)) LOA, 0.2 percent to hook-and-line CVs greater than or equal to 60 ft (18.3 m) LOA, 48.7 percent to hook-and-line C/Ps, 8.4 percent to pot CVs greater than or equal to 60 ft (18.3 m) LOA, 1.5 percent to pot C/Ps, 2.3 percent to AFA trawl C/Ps, 13.4 percent to the Amendment 80 sector, and 22.1 percent to trawl CVs. The BSAI ICA for the hook-and-line and pot sectors will be deducted from the aggregate portion of BSAI Pacific cod TAC allocated to the hook-and-line and pot sectors. For 2026 and 2027, the Regional Administrator proposes a BSAI ICA of 500 mt, based on anticipated incidental catch by these sectors in other fisheries. During the fishing year, NMFS may reallocate unharvested Pacific cod among sectors, consistent with the reallocation hierarchy set forth at § 679.20(a)(7)(iii).

The BSAI ITAC allocation of Pacific cod to the Amendment 80 sector is established in table 33 to 50 CFR part 679 and § 679.91. One Amendment 80 cooperative has formed for the 2026 fishing year. Because all Amendment 80 vessels are part of the sole cooperative, no allocation to the Amendment 80 limited access sector is required for 2026. The 2027 allocations for Pacific cod between Amendment 80 cooperatives and the Amendment 80 limited access sector will not be known until eligible participants apply for participation in the program by November 1, 2026.

The BSAI ITAC allocation of Pacific cod to the Pacific Cod Trawl Cooperative Program (PCTC) Program is established in § 679.131(b). Section 679.131(b)(1)(i) also requires NMFS to establish an ICA for incidental catch of Pacific cod by trawl CVs engaged in directed fishing for groundfish other than PCTC Program Pacific cod. NMFS proposes ICAs of 1,500 mt and 700 mt for the A and B seasons, respectively, to account for projected incidental catch of Pacific cod by trawl CVs engaged in directed fishing for groundfish other than PCTC Program Pacific cod.

In the annual harvest specification process, NMFS determines the Pacific cod trawl CV TAC and the annual apportionment of Pacific cod in the A and B seasons between the PCTC Program DFA and the ICA (§ 679.131(b)(2)) (table 4 below). NMFS calculates the PCTC Program cooperative allocations based on the submission of PCTC cooperative applications each year, as set forth in § 679.131(b). NMFS will include the 2026 PCTC Program cooperative allocations in the final harvest specifications. The 2027 PCTC Program cooperatives allocations will not be known until eligible participants apply for participation in the program by November 1, 2026.

The sector allocations of Pacific cod are apportioned into seasonal allowances to disperse the Pacific cod fisheries over the fishing year (§§ 679.20(a)(7)(i)(B) (CDQ), 679.20(a)(7)(iv)(A) (non-CDQ), and 679.23(e)(5) (seasons)). Table 4 lists the CDQ allocations and the non-CDQ sector and seasonal allowances. In accordance with § 679.20(a)(7)(iv)(B) and (C), any unused portion of a non-CDQ Pacific cod seasonal allowance for any sector, except the jig sector, will become available at the beginning of that sector's next seasonal allowance. Section 679.20(a)(7)(i)(B) sets forth the CDQ Pacific cod gear allowances by season, and CDQ groups are prohibited from exceeding those seasonal allowances (§ 679.7(d)(6)).

Section 679.20(a)(7)(vii) requires that the Regional Administrator establish an Area 543 Pacific cod harvest limit based on Pacific cod abundance in Area 543 as determined by the annual stock assessment process. Based on the 2024 stock assessment, the Regional Administrator has preliminarily determined for 2026 and 2027 that the estimated amount of Pacific cod abundance in Area 543 is 32 percent of total AI abundance. To calculate the Area 543 Pacific cod harvest limit, NMFS first subtracts the State GHL Pacific cod amount from the AI Pacific cod ABC. Then NMFS determines the harvest limit in Area 543 by multiplying the percentage of Pacific cod estimated in Area 543 (32 percent) by the remaining ABC for AI Pacific cod. Based on these calculations, which rely on the 2024 stock assessment, the proposed Area 543 harvest limit is 2,864 mt.

Under the PCTC Program, PCTC cooperatives are required to collectively set aside up to 12 percent of the trawl CV A-season allocation for delivery to an AI shoreplant established through the process set forth at § 679.132 in years in which an AI community representative notifies NMFS of their intent to process PCTC Program Pacific cod in Adak or Atka. A notice of intent to process PCTC Program Pacific cod for 2026 must be submitted in writing to the Regional Administrator by a representative of the City of Adak or the City of Atka no later than October 15. A notice of intent was not received in 2025, and accordingly the set-aside will not be in effect for 2026. The 2027 set-aside will be determined after the October 15, 2026, deadline in conjunction with the 2027 and 2028 harvest specifications process.

Based on the proposed 2026 and 2027 Pacific cod TACs, table 4 lists the CDQ and non-CDQ TAC amounts; non-CDQ seasonal allowances by gear; the sector allocations of Pacific cod; and the seasons set forth at § 679.23(e)(5).

BILLING CODE 3510-22-P

Sablefish Gear Allocation

Sections 679.20(a)(4)(iii) and (iv) require allocation of sablefish TAC for the BS and AI between trawl gear and fixed gear. Gear allocations of the sablefish TAC for the BS are 50 percent for trawl gear and 50 percent for fixed gear. Gear allocations of the TAC for the AI are 25 percent for trawl gear and 75 percent for fixed gear. Section 679.20(b)(1)(ii)(B) requires that NMFS apportion 20 percent of the fixed gear allocation of sablefish TAC to the CDQ reserve for each subarea. Also, § 679.20(b)(1)(ii)(D)(1) requires that 7.5 percent of the trawl gear allocation of sablefish TAC from the nonspecified reserve, established under § 679.20(b)(1)(i), be apportioned to the CDQ reserve. The Council recommended and NMFS proposes that only trawl sablefish TAC be established biennially. The harvest specifications for the fixed gear sablefish Individual Fishing Quota (IFQ) fisheries are limited to the 2026 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 5 lists the proposed 2026 and 2027 gear allocations of the sablefish TAC and CDQ reserve amounts.

Allocation of the AI Pacific Ocean Perch, and BSAI Flathead Sole, Rock Sole, and Yellowfin Sole TACs

Section 679.20(a)(10)(i) and (ii) require that NMFS allocate AI Pacific ocean perch, and BSAI flathead sole, rock sole, and yellowfin sole TACs between the Amendment 80 sector and the BSAI trawl limited access sector, after subtracting 10.7 percent for the CDQ reserves and amounts for ICAs for the BSAI trawl limited access sector and vessels using non-trawl gear. The allocation of the ITACs for AI Pacific ocean perch, and BSAI flathead sole, rock sole, and yellowfin sole to the Amendment 80 sector and the BSAI trawl limited access sector is established in accordance with tables 33 and 34 to 50 CFR part 679 and in § 679.91.

One Amendment 80 cooperative has formed for the 2026 fishing year. Because all Amendment 80 vessels are part of the sole cooperative, no allocation to the Amendment 80 limited access sector is required for 2026. The 2027 allocations for Amendment 80 species between Amendment 80 cooperatives and the Amendment 80 limited access sector will not be known until eligible participants apply for participation in the program by November 1, 2026. Table 6 lists the proposed 2026 and 2027 allocations of the AI Pacific ocean perch, and BSAI flathead sole, rock sole, and yellowfin sole TACs.

BILLING CODE 3510-22-C

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from fully harvesting their allocations and to improve the likelihood of achieving and maintaining, on a continuing basis, the OY in the BSAI groundfish fisheries. NMFS, after consultation with the Council, may set the ABC reserve at or below the ABC surplus for each species, thus maintaining the TAC at or below ABC limits. An amount equal to 10.7 percent of the ABC reserves will be allocated as CDQ ABC reserves for flathead sole, rock sole, and yellowfin sole. Section 679.31(b)(4) establishes the annual allocations of CDQ ABC reserves among the CDQ groups. The Amendment 80 ABC reserves are the ABC reserves minus the CDQ ABC reserves. Section 679.91(i)(2) establishes each Amendment 80 cooperative ABC reserves to be the ratio of each cooperatives' quota share units and the total Amendment 80 quota share units, multiplied by the Amendment 80 ABC reserve for each respective species. Table 7 lists the proposed 2026 and 2027 ABC surplus and ABC reserves for BSAI flathead sole, rock sole, and yellowfin sole.

Proposed PSC Limits for Halibut, Crab, and Herring

Sections 679.21(b) and (e) set forth the BSAI PSC limits for halibut, crab, and herring.

Section 679.21(b) establishes three fixed annual BSAI halibut PSC limits totaling 1,770 mt and assigns 315 mt as the PSQ reserve for use by the CDQ Program, 745 mt for the BSAI trawl limited access sector, and 710 mt for the BSAI non-trawl sector.

An additional amount of BSAI halibut PSC limit for the Amendment 80 sector is determined annually based on the most recent halibut biomass estimates from the International Pacific Halibut Commission (IPHC) setline survey index and the NMFS Alaska Fisheries Science Center (AFSC) Eastern Bering Sea shelf trawl survey index. In accordance with § 679.21(b)(1)(i), NMFS uses both halibut biomass estimates such that the value at the intercept of those survey indices from table 58 to 50 CFR part 679 is the Amendment 80 sector halibut PSC limit. The 2025 AFSC Eastern Bering Sea shelf trawl survey index estimate of halibut abundance is 133,705 mt, which is below the threshold level of 150,000 mt and is in the “low” abundance state. The 2025 IPHC setline survey index is 6,664 weight per unit effort and is in the “low” abundance state. Pursuant to table 58 to 50 CFR part 679, the 2026 Amendment 80 sector halibut PSC limit is 1,309 mt. NMFS will publish the 2027 Amendment 80 sector halibut PSC limit in the 2027 and 2028 harvest specifications.

Sections 679.21(b)(1)(iii)(A) and (B) require apportionment of the BSAI non-trawl halibut PSC limit into PSC allowances among six fishery categories. Table 11 lists the proposed fishery PSC allowances for the non-trawl fisheries.

Sections 679.21(b)(1)(ii)(A) and (B), (e)(3)(i)(B), and (e)(3)(iv) require apportionment of the BSAI trawl limited access sector's halibut and crab PSC limits into PSC allowances among seven fishery categories. Tables 9 and 10 list the proposed fishery PSC allowances for the BSAI trawl limited access sector fisheries.

Pursuant to section 3.6 of the FMP, the Council recommended, and NMFS proposes, that certain specified non-trawl fisheries be exempt from the halibut PSC limit. As in past years, after consultation with the Council, NMFS proposes to exempt the pot gear fishery, the jig gear fishery, and the sablefish IFQ fixed gear fishery categories from halibut bycatch restrictions for the following reasons: (1) the pot gear fisheries have low halibut bycatch mortality; (2) NMFS estimates halibut mortality for the jig gear fleet to be negligible because of the small size of the fishery and the selectivity of the gear; and (3) the sablefish and halibut IFQ fisheries have low halibut bycatch mortality because the IFQ Program requires legal-size halibut to be retained by vessels using fixed gear if a halibut IFQ permit holder or a hired master is aboard and is holding unused halibut IFQ for that vessel category and the IFQ regulatory area in which the vessel is operating (§ 679.7(f)(11)).

As of November 13, 2025, total groundfish catch from pot gear in the BSAI was 17,435 mt, with an associated halibut bycatch mortality of 15 mt. The 2025 jig gear fishery harvested 0 mt of groundfish.

Pursuant to § 679.21(e), PSC limits for crab and herring are specified annually based on abundance and spawning biomass.

Based on the most recent (2025) survey data, the red king crab mature female abundance is estimated at 12.7 million red king crabs, and the effective spawning biomass is estimated at 25.9 million lbs (11,750 mt). Based on the criteria set out at § 679.21(e)(1)(i), the calculated 2026 and 2027 PSC limit of red king crab in Zone 1 for trawl gear is 97,000 animals. This limit derives from the mature female abundance estimate above 8.4 million mature red king crab and an effective spawning biomass between 14.5 and 55 million lbs.

Section 679.21(e)(3)(ii)(B)(2) establishes criteria under which NMFS must specify, after consultation with the Council, an annual red king crab bycatch limit for the Red King Crab Savings Subarea (RKCSS) if the State has established a GHL fishery for red king crab in the Bristol Bay area in the previous year. The regulations limit the RKCSS red king crab bycatch limit to 25 percent of the red king crab PSC limit, based on the need to optimize the groundfish harvest relative to red king crab bycatch. In October 2025, the Council recommended and NMFS proposes that the RKCSS red king crab bycatch limit for 2026 and 2027 be equal to 25 percent of the red king crab PSC limit (table 9).

Based on the most recent (2025) survey data from the NMFS annual bottom trawl survey, Tanner crab (Chionoecetes bairdi) abundance is estimated at 1,151.3 million animals. Pursuant to criteria set out at § 679.21(e)(1)(ii), the calculated 2026 and 2027 C. bairdi crab PSC limit for trawl gear is 980,000 animals in Zone 1 and 2,970,000 animals in Zone 2. The limit in Zone 1 is based on the total abundance of C. bairdi (estimated at 1,151.3 million animals), which is greater than 400 million animals. The limit in Zone 2 is based on the total abundance of C. bairdi (estimated at 1,153.1 million animals), which is greater than 400 million animals.

Pursuant to § 679.21(e)(1)(iii), the PSC limit for trawl gear for snow crab (C. opilio) is based on total abundance as indicated by the NMFS annual bottom trawl survey. The C. opilio crab PSC limit in the C. opilio bycatch limitation zone (COBLZ) is set at 0.1133 percent of the Bering Sea abundance index minus 150,000 crabs, unless a minimum or maximum PSC limit applies. Based on the most recent (2025) survey estimate of 12.64 billion animals, the calculated C. opilio crab PSC limit is 14,321,120 animals. Because 0.1133 percent multiplied by the total abundance is greater than 13 million animals, the maximum PSC limit applies and the PSC limit will be 12,850,000 million animals.

Pursuant to § 679.21(e)(1)(v), the PSC limit of Pacific herring caught while conducting any trawl operation for BSAI groundfish is 1 percent of the annual eastern Bering Sea herring biomass. Due to the lack of new information as of October 2025 regarding herring PSC limits and apportionments, the Council recommended, and NMFS proposes, basing the proposed 2026 and 2027 herring PSC limits and apportionments on the 2025 forecasted biomass estimate. Based on the 2025 forecasted biomass estimate, the best current estimate of 2026 and 2027 herring biomass is 265,096 mt. This amount was developed by the Alaska Department of Fish and Game based on biomass for spawning aggregations. Therefore, the herring PSC limit proposed for 2026 and 2027 is 2,651 mt for all trawl gear as listed in tables 8 and 9. The Council and NMFS will reconsider the herring PSC limit for the final harvest specifications when updated annual survey data and information on biomass becomes available.

Section 679.21(e)(3)(i)(A)(1) allocates 10.7 percent of each trawl gear PSC limit specified for crab as a PSQ reserve for use by the groundfish CDQ Program. Section 679.21(e)(3)(i)(A) requires that crab PSQ reserves be subtracted from the total trawl PSC limits. The crab and halibut PSC limits apportioned to the Amendment 80 and BSAI trawl limited access sectors are listed in table 35 to 50 CFR part 679. The resulting proposed 2026 and 2027 apportionments of crab and halibut PSC limits to CDQ PSQ, the Amendment 80 sector, and the BSAI trawl limited access sector are listed in table 8. Pursuant to §§ 679.21(b)(1)(i), 679.21(e)(3)(vi), and 679.91(d) through (f), crab and halibut trawl PSC limits apportioned to the Amendment 80 sector are then further assigned to Amendment 80 cooperatives as cooperative quotas. Crab and halibut PSC cooperative quotas assigned to Amendment 80 cooperatives are not allocated to specific fishery categories.

One Amendment 80 cooperative has formed for the 2026 fishing year. Because all Amendment 80 vessels are part of the sole cooperative, no PSC limit to the Amendment 80 limited access sector is required for 2026. The 2027 PSC limit apportionments between Amendment 80 cooperatives and the Amendment 80 limited access sector will not be known until eligible participants apply for participation in the program by November 1, 2026.

The BSAI allocation of halibut and crab PSC limits to the PCTC Program is established in § 679.131(c) and (d). The halibut PSC apportioned to the trawl CV sector is 98 percent of the halibut PSC limit apportioned to the BSAI trawl limited access sector's Pacific cod fishery category, and the remaining 2 percent is apportioned to the AFA C/P sector. The trawl CV sector apportionment is further allocated to the A and B seasons (95 percent) and the C season (5 percent). The allocation to the A and B season is subject to a 25 percent reduction consistent with § 679.131(c)(1)(iii) for the overall PCTC Program halibut PSC limit. The crab PSC apportioned to the trawl CV sector is 90.6 percent of the crab PSC limit apportioned to the BSAI trawl limited access sector's Pacific cod fishery category, and the remaining 9.4 percent is apportioned to the AFA C/P sector. The trawl CV sector apportionment is further allocated to the A and B seasons (95 percent) and the C season (5 percent), and the A and B season limit is reduced by 35 percent to determine the overall PCTC Program crab PSC limit.

Pursuant to § 679.131(c) and (d), the halibut and crab trawl PSC limits assigned to the PCTC Program are then further issued to PCTC Program cooperatives as cooperative quotas. NMFS calculates the halibut and crab PSC limits for PCTC Program cooperatives based on the submission of PCTC cooperative applications each year, as set forth in § 679.131(c) and (d). NMFS will include the 2026 halibut and crab PSC limits for PCTC Program cooperatives in the final harvest specifications. The 2027 allocations of halibut and crab PSC limits for PCTC Program cooperatives will not be known until eligible participants apply for participation in the program by November 1, 2026.

Sections 679.21(b)(2) and (e)(5) authorize NMFS, after consulting with the Council, to establish seasonal apportionments of halibut and crab PSC limits for the BSAI non-trawl, BSAI trawl limited access, and Amendment 80 limited access sectors to maximize the ability of the fleet to harvest the available groundfish TAC and to minimize bycatch. The factors considered are (1) seasonal distribution of prohibited species, (2) seasonal distribution of target groundfish species relative to prohibited species distribution, (3) prohibited species bycatch needs on a seasonal basis relative to prohibited species biomass and expected catches of target groundfish species, (4) expected variations in bycatch rates throughout the year, (5) expected changes in directed groundfish fishing seasons, (6) expected start of fishing effort, and (7) economic effects of establishing seasonal prohibited species apportionments on segments of the target groundfish industry. Based on these factors, the Council recommended, and NMFS proposes, the seasonal PSC apportionments in tables 10 and 11 to maximize harvest among gear types, fisheries, and seasons, while minimizing bycatch of PSC.

BILLING CODE 3510-22-P

BILLING CODE 3510-22-C

Halibut Discard Mortality Rates

To monitor halibut bycatch mortality allowances and apportionments, the Regional Administrator uses observed halibut bycatch rates, halibut discard mortality rates (DMRs), and estimates of groundfish catch to project when a fishery's halibut bycatch mortality allowance or seasonal apportionment is reached. Halibut bycatch rates are based on observed estimates of halibut bycatch in the groundfish fishery. DMRs are estimates of the proportion of halibut bycatch that do not survive after being returned to the sea. The cumulative halibut mortality that accrues to a particular halibut PSC limit is the product of a DMR multiplied by the estimated halibut PSC. DMRs are estimated using the best scientific information available in conjunction with the annual BSAI stock assessment process.

The DMRs are calculated annually based on a methodology developed by a halibut working group made up of IPHC, Council, and NMFS staff. The DMR methodology and findings are included as an appendix to the 2024 SAFE Report (see ADDRESSES). The halibut working group continues to consider improvements to the methodology used to calculate halibut mortality, including potential changes to the reference period (the period of data used for calculating the DMRs). Future DMRs may change based on additional years of observer sampling, which could provide more recent and accurate data and which could improve the accuracy of estimation and progress on methodology. The methodology will continue to ensure that NMFS is using DMRs that more accurately reflect halibut mortality, which will inform the different sectors of their estimated halibut mortality and allow specific sectors to respond with methods that could reduce mortality and, eventually, the DMR for that sector.

At the October 2025 meeting, the SSC reviewed the DMRs recommended by the Plan Team that were derived from the DMR methodology, which uses a 2-year and 4-year reference period depending on data availability. The Council then reviewed and recommended proposed 2026 and 2027 DMRs. NMFS is proposing the DMRs reviewed by the SSC and recommended by the Council in October 2025 for the proposed 2026 and 2027 DMRs. Table 12 lists the proposed 2026 and 2027 DMRs.

Proposed Salmon PSC Limits

Under § 679.21(f)(2), NMFS annually allocates portions of either 33,318, 45,000, 47,591, or 60,000 Chinook salmon PSC limits among the AFA sectors, depending on past bycatch performance, on whether Chinook salmon bycatch incentive plan agreements (IPA) are approved, and on whether NMFS determines it is a low Chinook salmon abundance year. NMFS will determine that it is a low Chinook salmon abundance year when abundance of Chinook salmon in western Alaska is less than or equal to 250,000 Chinook salmon. The State provides to NMFS an estimate of Chinook salmon abundance using the 3-System Index for western Alaska, based on the Kuskokwim, Unalakleet, and Upper Yukon aggregate stock grouping.

If an AFA sector participates in an approved IPA and has not exceeded its performance standard under § 679.21(f)(6), and if it is not a low Chinook salmon abundance year, then NMFS will allocate a portion of the 60,000 Chinook salmon PSC limit to that sector as specified in § 679.21(f)(3)(iii)(A). If no IPA is approved or the sector has exceeded its performance standard under § 679.21(f)(6), and if it is not a low abundance year, then NMFS will allocate a portion of the 47,591 Chinook salmon PSC limit to that sector as specified in § 679.21(f)(3)(iii)(C). If an AFA sector participates in an approved IPA and has not exceeded its performance standard under § 679.21(f)(6) and it is a low abundance year, then NMFS will allocate a portion of the 45,000 Chinook salmon PSC limit to that sector as specified in § 679.21(f)(3)(iii)(B). If no IPA is approved or the sector has exceeded its performance standard under § 679.21(f)(6) and it is a low abundance year, then NMFS will allocate a portion of the 33,318 Chinook salmon PSC limit to that sector as specified in § 679.21(f)(3)(iii)(D).

NMFS has determined that 2025 was a low Chinook salmon abundance year, based on the State's estimate that Chinook salmon abundance in western Alaska is less than 250,000 Chinook salmon. Therefore, in 2026, the Chinook salmon PSC limit is 45,000 Chinook salmon, allocated to each sector as specified in § 679.21(f)(3)(iii)(B). In 2026, the Chinook salmon bycatch performance standard under § 679.21(f)(6) is 33,318 Chinook salmon, allocated to each sector as specified in § 679.21(f)(3)(iii)(D). If a sector exceeds its Chinook salmon bycatch performance standard in any three of seven consecutive years, that sector's allocation is reduced to the amount allocated under the Chinook salmon bycatch performance standard at § 679.21(f)(3)(iii)(C)-(D). The AFA sector Chinook salmon PSC allocations are also seasonally apportioned with 70 percent of the allocation for the A season pollock fishery and 30 percent of the allocation for the B season pollock fishery (§§ 679.21(f)(3)(i) and 679.23(e)(2)). NMFS publishes the approved IPAs and the Chinook salmon PSC allocations and reports at https://www.fisheries.noaa.gov/alaska/sustainable-fisheries/sustainable-fisheries-alaska.

Section 679.21(g)(2)(i) specifies 700 fish as the Chinook salmon PSC limit for the AI pollock fishery. Section 679.21(g)(2)(ii) allocates 7.5 percent, or 53 Chinook salmon, as the AI PSQ reserve for the CDQ Program and allocates the remaining 647 Chinook salmon to the non-CDQ fisheries.

Section 679.21(f)(14)(i) specifies 42,000 fish as the non-Chinook salmon PSC limit for vessels using trawl gear from August 15 through October 14 in the Catcher Vessel Operational Area (CVOA). Section 679.21(f)(14)(ii) allocates 10.7 percent, or 4,494 non-Chinook salmon, in the CVOA as the PSQ reserve for the CDQ Program and allocates the remaining 37,506 non-Chinook salmon in the CVOA to the non-CDQ fisheries. Section 679.21(f)(14)(iv) exempts from closures in the Chum Salmon Savings Area trawl vessels participating in directed fishing for pollock and operating under an IPA approved by NMFS.

AFA Harvesting Sideboard Limits

Section 679.64 establishes groundfish harvesting and processing sideboard limits on AFA C/Ps and CVs in the BSAI. These sideboard limits are necessary to protect the interests of fishermen and processors who do not directly benefit from the AFA from those fishermen and processors who received exclusive harvesting and processing privileges under the AFA.

Listed AFA C/P Sideboard Limits

Pursuant to § 679.64(a)(1), the Regional Administrator establishes annual AFA C/P harvest limits for each groundfish species or species group in which a TAC is specified for an area or subarea of the BSAI. Section 679.20(d)(1)(iv)(D) and table 54 to 50 CFR part 679 prohibit non-exempt AFA C/Ps from directed fishing for all groundfish species or species groups subject to sideboard limits. NMFS proposes to exempt AFA C/Ps from a yellowfin sole sideboard limit pursuant to § 679.64(a)(1)(v) because the proposed 2026 and 2027 aggregate ITAC of yellowfin sole assigned to the Amendment 80 sector and BSAI trawl limited access sector is greater than 125,000 mt.

Section 679.64(a)(2) and tables 40 and 41 to 50 CFR part 679 establish a formula for calculating PSC sideboard limits for halibut and crab caught by listed AFA C/Ps. The basis for these sideboard limits is described in detail in the final rules implementing the major provisions of the AFA (67 FR 79692, December 30, 2002) and Amendment 80 (72 FR 52668, September 14, 2007). PSC species listed in table 13 that are caught by listed AFA C/Ps participating in any groundfish fishery other than pollock will accrue against the proposed 2026 and 2027 PSC sideboard limits for the listed AFA C/Ps. Sections 679.21(b)(4)(iii), (e)(3)(v), and (e)(7) authorize NMFS to close directed fishing for groundfish other than pollock for listed AFA C/Ps once a 2026 or 2027 PSC sideboard limit is reached. Pursuant to § 679.21(b)(1)(ii)(C) and (e)(3)(ii)(C), halibut or crab PSC by listed AFA C/Ps while fishing for pollock will accrue against the PSC allowances annually specified for the pollock/Atka mackerel/“other species” fishery categories, according to § 679.21(b)(1)(ii)(B) and (e)(3)(iv).

AFA CV Sideboard Limits

Section 679.64(b)(3) and (b)(4) and tables 40 and 41 to 50 CFR part 679 establish formulas for setting AFA CV groundfish sideboard limits and halibut and crab PSC sideboard limits for the BSAI. The basis for these sideboard limits is described in detail in the final rules implementing the major provisions of the AFA (67 FR 79692, December 30, 2002), Amendment 80 (72 FR 52668, September 14, 2007), and Amendment 122 (88 FR 53704, August 8, 2023). NMFS proposes to exempt AFA CVs from a yellowfin sole sideboard limit pursuant to § 679.64(b)(6) because the proposed 2026 and 2027 aggregate ITAC of yellowfin sole assigned to the Amendment 80 sector and BSAI trawl limited access sector is greater than 125,000 mt.

Section 679.20(d)(1)(iv)(D) and table 55 to 50 CFR part 679 prohibit non-exempt AFA CVs from directed fishing for a majority of the groundfish species or species groups subject to sideboard limits. The only remaining sideboard limit for non-exempt AFA CVs is for Pacific cod. Pursuant to amendment 122 to the FMP, the Pacific cod sideboard limit is no longer necessary in the A and B seasons because directed fishing in the BSAI for Pacific cod by trawl CVs is now managed under the PCTC Program, and accordingly the sideboard limit is in effect in the C season only (§ 679.64(b)(3)(ii)). Table 14 lists the proposed 2026 and 2027 AFA CV Pacific cod sideboard limits.

Halibut and crab PSC limits listed in table 15 that are caught by AFA CVs participating in any groundfish fishery other than pollock will accrue against the 2026 and 2027 PSC sideboard limits for the AFA CVs. Sections 679.21(b)(4)(iii), (e)(3)(v), and (e)(7) authorize NMFS to close directed fishing for groundfish other than pollock for AFA CVs once a 2026 or 2027 PSC sideboard limit is reached. Pursuant to § 679.21(b)(1)(ii)(C) and (e)(3)(ii)(C), halibut or crab PSC by AFA CVs while fishing for pollock will accrue against the PSC allowances annually specified for the pollock/Atka mackerel/“other species” fishery categories, according to § 679.21(b)(1)(ii)(B) and (e)(3)(iv).

BILLING CODE 3510-22-P

BILLING CODE 3510-22-C

Classification

NMFS is issuing this proposed rule pursuant to section 305(d) of the Magnuson-Stevens Act. Through previous actions, the FMP and regulations authorize NMFS to take this action under section 305(d) (see 50 CFR part 679). The NMFS Assistant Administrator has preliminarily determined that the proposed harvest specifications are consistent with the FMP, the Magnuson-Stevens Act, and other applicable laws, subject to further review and consideration after public comment.

NMFS finds that a comment period of at least 15 days for this action provides a reasonable opportunity for public participation pursuant to Administrative Procedure Act section 553(c) (5 U.S.C. 553(c)). Section 3.2.3.1.3 of the FMP notes the public review and comment period on the proposed harvest specifications will be at least 15 days. This year a shorter comment period is necessary to ensure the final harvest specifications publish no later than March 18, 2026, while providing the public with a meaningful opportunity for review and comment. The subject of this proposed rule—the annual harvest specifications—is based on the established harvest strategy and harvest control rules and tier system in the FMP. NMFS was unable to publish the proposed rule any earlier and afford a longer comment period due to the lapse in appropriations and resulting government shutdown. A prolonged comment period and subsequent potential delay in implementation of this action before the final 2025 and 2026 harvest specifications expire on March 18, 2026, would be contrary to public interest and could result in the closure of the BSAI groundfish fisheries until the final 2026 and 2027 harvest specifications are published.

This action is authorized under 50 CFR 679.20 and is exempt from review under Executive Order (E.O.) 12866 because it only implements annual catch limits in the BSAI. This action is not a regulatory action under E.O. 14192 because it is exempt from review under E.O. 12866.

NMFS prepared an EIS for the Alaska groundfish harvest specifications and alternative harvest strategies (see ADDRESSES) and made it available to the public on January 12, 2007 (72 FR 1512). On February 13, 2007, NMFS issued the ROD for the Final EIS. A SIR is being prepared for the final 2026 and 2027 harvest specifications to address the need to prepare a Supplemental EIS. Copies of the Final EIS, ROD, and annual SIRs for this action are available from NMFS (see ADDRESSES). The Final EIS analyzes the environmental, social, and economic consequences of alternative harvest strategies on resources in the action area. Based on the analysis in the Final EIS, NMFS concluded that the preferred alternative (Alternative 2) provides the best balance among relevant environmental, social, and economic considerations and allows for continued management of the groundfish fisheries based on the most recent, best scientific information.

Initial Regulatory Flexibility Analysis

This Initial Regulatory Flexibility Analysis (IRFA) was prepared for this proposed rule, as required by Section 603 of the Regulatory Flexibility Act (RFA) (5 U.S.C. 603), to describe the economic impact this proposed rule, if adopted, would have on small entities. The IRFA describes the action; the reasons why this proposed rule is proposed; the objectives and legal basis for this proposed rule; the estimated number and description of directly regulated small entities to which this proposed rule would apply; the recordkeeping, reporting, and other compliance requirements of this proposed rule; and the relevant Federal rules that may duplicate, overlap, or conflict with this proposed rule. The IRFA also describes significant alternatives to this proposed rule that would accomplish the stated objectives of the Magnuson-Stevens Act, and any other applicable statutes, and that would minimize any significant economic impact of this proposed rule on small entities. The description of the proposed action, its purpose, and the legal basis are explained earlier in the preamble and are not repeated here.

For RFA purposes only, NMFS has established a small business size standard for businesses, including their affiliates, whose primary industry is commercial fishing (50 CFR 200.2). A business primarily engaged in commercial fishing (North American Industry Classification System (NAICS) code 11411) is classified as a small business if it is independently owned and operated, is not dominant in its field of operation (including its affiliates), and has combined annual gross receipts not in excess of $11 million for all its affiliated operations worldwide. A shoreside and mothership processor primarily involved in seafood processing (NAICS code 311710) is classified as a small business if it is independently owned and operated, is not dominant in its field of operation (including its affiliates), and has combined annual employment, counting all individuals employed on a full-time, part-time, or other basis, not in excess of 750 employees for all its affiliated operations worldwide.

Number and Description of Small Entities Regulated by This Proposed Rule

The entities directly regulated by the groundfish harvest specifications include: (a) entities operating vessels with groundfish Federal fisheries permits (FFPs) catching FMP groundfish in Federal waters (including those receiving direction allocations of groundfish); (b) all entities operating vessels, regardless of whether they hold groundfish FFPs, catching FMP groundfish in the State-waters parallel fisheries; and (c) all entities operating vessels fishing for halibut that have incidental catch of FMP groundfish (whether or not they have FFPs).

In 2024 (the most recent year of complete data), there were 92 individual CVs and 1 C/P with gross revenues less than or equal to $11 million. The six CDQ groups are also considered small entities. This represents the potential suite of directly regulated small entities. The determination of entity size is based on vessel revenues and affiliated group revenues. This determination also includes an assessment of fisheries cooperative affiliations, although actual vessel ownership affiliations have not been completely established. However, the estimate of these 93 vessels may be an overstatement of the number of small entities because of the complexity of analyzing the links and affiliations across these vessels, particularly since many of them conduct operations in both Federal and State fisheries. This group of vessels had average gross revenues that varied by gear type. Average gross revenues for hook-and-line CVs, pot gear CVs, and trawl gear CVs are estimated to be $0.73 million, $1.47 million, and $3.39 million, respectively. Average gross revenues for C/P entities are confidential. There are 3 AFA cooperative affiliated motherships that appear to fall under the 750 worker threshold and are therefore small entities. The average gross revenues for the AFA motherships are confidential because all three members are in a cooperative and have operated two of their three vessels in recent years.

Recordkeeping, Reporting, and Other Compliance Requirements and Relevant Federal Rules That May Duplicate, Overlap, or Conflict With Proposed Rule

This action would not impose recordkeeping and reporting requirements. This action would set TAC and PSC limits that NMFS utilizes for the management of the groundfish fishery in the BSAI. If a TAC limit or PSC limit has been or will be reached, NMFS can take action to prevent exceeding the specified limit. Entities operating in the BSAI must follow any inseason actions NMFS issues. The specific compliance requirements for entities operating in the BSAI are set by regulations that are separate from this action. This action does not duplicate, overlap, or conflict with any Federal rules.

Description of Significant Alternatives That Minimize Adverse Impacts on Small Entities

The action under consideration is the proposed 2026 and 2027 harvest specifications, apportionments, and prohibited species catch limits for the groundfish fishery of the BSAI. This action is necessary to establish harvest limits for groundfish during the 2026 and 2027 fishing years and is taken in accordance with the FMP recommended by the Council and approved by NMFS pursuant to the Magnuson-Stevens Act. The establishment of the proposed harvest specifications is governed by the Council and NMFS's harvest strategy for the catch of groundfish in the BSAI. Under the preferred harvest strategy, TACs are set to a level that falls within the range of ABCs recommended by the SSC through the harvest specifications process; the sum of the TACs must achieve the OY specified in the FMP and regulations. While the specific numbers that the harvest strategy produces may vary from year to year, the methodology used for the preferred harvest strategy remains constant.

The proposed TACs associated with the preferred harvest strategy are those recommended by the Council in October 2025. Proposed OFLs and ABCs for the species were based on recommendations prepared by the Council's Plan Team in September 2025 and reviewed by the Council's SSC in October 2025. The Council based its TAC recommendations on those of its AP, which were consistent with the SSC's OFL and ABC recommendations. The sum of all TACs remains within the OY for the BSAI consistent with § 679.20(a)(1)(i)(A). Because setting all TACs equal to ABCs would cause the sum of TACs to exceed an OY of 2 million mt, TACs for some species or species groups are lower than the ABCs recommended by the Plan Team and the SSC.

The proposed 2026 and 2027 OFLs and ABCs are based on the best available biological information, including projected biomass trends, information on assumed distribution of stock biomass, and revised technical methods to calculate stock biomass. The proposed 2026 and 2027 TACs are based on the best available biological and socioeconomic information. The proposed 2026 and 2027 OFLs, ABCs, and TACs are consistent with the biological condition of groundfish stocks as described in the 2024 SAFE report, which is the most recent, completed SAFE report.

Under this action, the proposed ABCs reflect harvest amounts that are less than the specified OFLs. The proposed TACs are within the range of proposed ABCs recommended by the SSC and do not exceed the biological limits recommended by the SSC (the ABCs and OFLs). For some species and species groups in the BSAI, the Council recommended, and NMFS proposes, proposed TACs equal to proposed ABCs, which is intended to maximize harvest opportunities in the BSAI.

However, NMFS cannot set TACs for all species in the BSAI equal to their ABCs due to the constraining OY limit of 2 million mt. For this reason, some proposed TACs are less than the proposed ABCs. The specific reductions were reviewed and recommended by the Council's AP, and the Council in turn adopted the AP's TAC recommendations in making its own recommendations for the proposed 2026 and 2027 TACs.

Based upon the best scientific data available, and in consideration of the objectives for this action, it appears that there are no significant alternatives to the proposed rule that have the potential to accomplish the stated objectives of the Magnuson-Stevens Act and any other applicable statutes and that have the potential to minimize any significant adverse economic impact of the proposed rule on small entities. This action is economically beneficial to entities operating in the BSAI, including small entities. The action proposes TACs for commercially-valuable species in the BSAI and allows for the continued prosecution of the fishery, thereby creating the opportunity for fishery revenue. After public process during which the Council solicited input from stakeholders, the Council recommended the proposed harvest specifications, which NMFS determines would best accomplish the stated objectives articulated in the preamble for this proposed rule, and in applicable statutes, and would minimize to the extent practicable adverse economic impacts on the universe of directly regulated small entities.

This proposed rule contains no information collection requirements under the Paperwork Reduction Act of 1995.

Adverse impacts on marine mammals or endangered or threatened species resulting from fishing activities conducted under these harvest specifications are discussed in the Final EIS and its accompanying annual SIRs (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: December 12, 2025.
Samuel D. Rauch III,
Deputy Assistant Administrator for Regulatory Programs, National Marine Fisheries Service.

[FR Doc. 2025-22995 Filed 12-15-25; 8:45 am]

BILLING CODE 3510-22-P